DEPARTMENT OF HOMELAND SECURITY

Coast Guard

33 CFR Part 117

[Docket No. USCG-2018-0995]

Drawbridge Operation Regulation; Upper Mississippi River, LaCrosse, WI

AGENCY: Coast Guard, DHS.

ACTION: Notice of deviation from drawbridge regulation.

SUMMARY: The Coast Guard has issued a temporary deviation from the operating schedule that governs the LaCrosse Railroad Drawbridge across the Upper Mississippi River, mile 699.8, at LaCrosse, Wisconsin. The deviation is necessary to facilitate repairs essential for the safe operation of the drawbridge. This deviation allows the bridge to remain in the closed-to-navigation position for approximately four (4) hours weekdays.

DATES: This deviation is effective from 5 a.m. November 5, 2018 through 9 a.m. December 14, 2018.

ADDRESSES: The docket for this deviation, USCG-2018-0995 is available at http://www.regulations.gov. Type the docket number in the “SEARCH” box and click “SEARCH.” Click on Open Docket Folder on the line associated with this deviation.

FOR FURTHER INFORMATION CONTACT: If you have questions on this temporary deviation, call or email Mr. Eric A. Washburn, Bridge Administrator, Western Rivers, Coast Guard; telephone 314-269-2378, email Eric.Washburn@uscg.mil.

SUPPLEMENTARY INFORMATION: Central Pacific Railway, the owner and operator of the LaCrosse Railroad Drawbridge, across the Upper Mississippi River, mile 699.8, at LaCrosse, Wisconsin, requested a temporary deviation from the current operating schedule to make repairs essential for the safe operation of the drawbridge. The bridge has a vertical clearance of 21.9 feet above normal pool in the closed-to-navigation position. This drawbridge currently operates under 33 CFR 117.5. This deviation allows the bridge to remain in the closed-to-navigation position weekdays from 5 a.m. to 9 a.m. commencing on November 5, 2018 through December 14, 2018. Navigation on the waterway consists primarily of commercial tows and recreational watercraft. This temporary deviation has been coordinated with waterway users. No objections were received. The Coast Guard has carefully considered the restrictions with waterway users in publishing this temporary deviation.

Vessels able to pass under the bridge in the closed position may do so at any time. The bridge will not be able to open for emergencies and there are no alternate routes for vessels transiting this section of the Upper Mississippi River. The Coast Guard will inform users of the waterways through our Local and Broadcast Notices to Mariners of the change in operating schedule for the bridge so the vessel operators can arrange their transits to minimize any impact caused by this temporary deviation.

In accordance with 33 CFR 117.35(e), the drawbridge must return to its regular operating schedule immediately at the end of the effective period of this temporary deviation. This deviation from the operating regulations is authorized under 33 CFR 117.35.

Dated: October 29, 2018.
Eric A. Washburn,
Bridge Administrator, Western Rivers.

[FR Doc. 2018-23937 Filed 11-1-18; 8:45 am]

BILLING CODE 9110-04-P